FEDERAL COMMUNICATIONS COMMISSION

47 CFR Part 25

[IB Docket No. 12-267; FCC 13-111]

Comprehensive Review of Licensing and Operating Rules for Satellite Services

AGENCY: Federal Communications Commission.

ACTION: Final rule; correction.

SUMMARY: The Federal Communications Commission published a document in the Federal Register at 79 FR 8308, February 12, 2014, revising Commission rules. That document inadvertently included a reference to 2 GHz Mobile-Satellite Service in § 25.285(a)(2). This document corrects the final regulation by revising that provision.

DATES: The Commission will publish a document in the Federal Register announcing the effective date of the rule section corrected here and of this correction after receiving approval from the Office of Management and Budget for the information collection requirements contained in the rulemaking.

FOR FURTHER INFORMATION CONTACT: Cindy Spiers, Satellite Division, International Bureau, Federal Communications Commission, Washington, DC 20554, at (202) 418-1593 or via email at Cindy.Spiers@fcc.gov.

SUPPLEMENTARY INFORMATION: In FR Doc. 2014-02213 appearing on page 8308 in the Federal Register of Wednesday, February 12, 2014, the following correction is made:

§ 25.285 [Corrected]

On page 8326, in the first column, in § 25.285 paragraph (a)(2), “ATC terminals capable of transmitting in the 1.5/1.6 GHz, 1.6/2.4 GHz, or 2 GHz MSS bands” is corrected to read “ATC terminals capable of transmitting in the 1.5/1.6 GHz or 1.6/2.4 GHz MSS bands”.

Federal Communications Commission.
Marlene H. Dortch,
Secretary.

[FR Doc. 2014-17869 Filed 7-29-14; 8:45 am]

BILLING CODE 6712-01-P